NUCLEAR REGULATORY COMMISSION

[Docket No. 030-32741]

Notice of Availability of Environmental Assessment and Finding of No Significant Impact for License Amendment for Central Virginia Laboratories & Consultants, Inc's Facility in Virginia Beach, VA

AGENCY: Nuclear Regulatory Commission.

ACTION: Notice of availability.

FOR FURTHER INFORMATION CONTACT: Kathy Modes, Materials Security & Industrial Branch, Division of Nuclear Materials Safety, Region I, 475 Allendale Road, King of Prussia, Pennsylvania 19406, telephone (610) 337-5251, fax (610) 337-5269; or by e-mail: kad@nrc.gov.

SUPPLEMENTARY INFORMATION:

I. Introduction

The Nuclear Regulatory Commission (NRC) is issuing a license amendment to Central Virginia Laboratories & Consultants, Inc. for Materials License No. 45-25198-01, to authorize release of its facility in Virginia Beach, Virginia, for unrestricted use. NRC has prepared an Environmental Assessment (EA) in support of this action in accordance with the requirements of 10 CFR Part 51. Based on the EA, the NRC has concluded that a Finding of No Significant Impact (FONSI) is appropriate. The amendment will be issued following the publication of this Notice.

II. EA Summary

The purpose of the action is to authorize the release of the licensee's Virginia Beach, Virginia facility for unrestricted use. Central Virginia Laboratories & Consultants, Inc. was authorized by NRC from June 16, 1992, to use radioactive materials for environmental sample analysis purposes at the site. On November 9, 2004, Central Virginia Laboratories & Consultants, Inc. requested that NRC release the facility for unrestricted use. Central Virginia Laboratories & Consultants, Inc. has conducted surveys of the facility and provided information to the NRC to demonstrate that the site meets the license termination criteria in Subpart E of 10 CFR Part 20 for unrestricted use.

The NRC staff has prepared an EA in support of the license amendment. The facility was remediated and surveyed prior to the licensee requesting the license amendment. The NRC staff has reviewed the information and final status survey submitted by Central Virginia Laboratories & Consultants, Inc. Based on its review, the staff has determined that there are no additional remediation activities necessary to complete the proposed action. Therefore, the staff considered the impact of the residual radioactivity at the facility and concluded that since the residual radioactivity meets the requirements in Subpart E of 10 CFR Part 20, a Finding of No Significant Impact is appropriate.

III. Finding of No Significant Impact

The staff has prepared the EA (summarized above) in support of the license amendment to release the facility for unrestricted use. The NRC staff has evaluated Central Virginia Laboratories & Consultants, Inc.'s request and the results of the surveys and has concluded that the completed action complies with the criteria in Subpart E of 10 CFR Part 20. The staff has found that the radiological environmental impacts from the action are bounded by the impacts evaluated by NUREG-1496, Volumes 1-3, “Generic Environmental Impact Statement in Support of Rulemaking on Radiological Criteria for License Termination of NRC-Licensed Facilities” (ML042310492, ML042320379, and ML042330385). The staff also found that the non-radiological impacts are not significant. On the basis of the EA, the NRC has concluded that the environmental impacts from the action are expected to be insignificant and has determined not to prepare an environmental impact statement for the action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: Environmental Assessment [ML051530427], letter dated November 9, 2004 [ADAMS Accession No. ML043380167], screening procedure information contained in letter dated January 17, 2005 [ADAMS Accession No. ML050340504], and survey data sent via electronic mail on February 14, 2005 [ADAMS Accession No. ML050450563]. Persons who do not have access to ADAMS or who encounter problems in accessing the documents located in ADAMS, should contact the NRC PDR Reference staff by telephone at (800) 397-4209 or (301) 415-4737, or by email to pdr@nrc.gov.

Documents related to operations conducted under this license not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania this 3rd day of June, 2005.
For the Nuclear Regulatory Commission.
James P. Dwyer,
Chief, Commercial and R&D Branch, Division of Nuclear Materials Safety Region I.

[FR Doc. 05-11496 Filed 6-9-05; 8:45 am]

BILLING CODE 7590-01-P